NUCLEAR REGULATORY COMMISSION

[Docket No. 50-395; NRC-2009-0559]

South Carolina Electric and Gas Company, Virgil C. Summer Nuclear Station, Unit 1, Environmental Assessment and Finding of No Significant Impact

The U.S. Nuclear Regulatory Commission (NRC) is considering issuance of an exemption pursuant to Title 10 of the Code of Federal Regulations (10 CFR) Part 50, Section 50.12, “Specific Exemptions,” for Facility Operating License No. NPF-12, issued to South Carolina Electric & Gas Company (the licensee), for operation of the Virgil C. Summer Nuclear Station, Unit 1, located in Fairfield County, South Carolina. Therefore, as required by 10 CFR 51.21, the NRC performed an environmental assessment. Based on the results of the environmental assessment, the NRC is issuing a finding of no significant impact.

Environmental Assessment

Identification of the Proposed Action

The proposed action would provide a one-time exemption to the requirements of 10 CFR 50, Appendix E, “Emergency Planning and Preparedness for Production and Utilization Facilities,” Section IV.F.2.b, to postpone the onsite portion of the biennial emergency preparedness exercise from calendar year 2009 until April 2010.

The proposed action is in accordance with the licensee's application dated October 15, 2009, as supplemented by letter dated November 3, 2009.

The Need for the Proposed Action

The licensee states that it has made a good faith effort to comply with the regulation in that the biennial exercise was previously scheduled to be performed on October 7, 2009. The licensee further states that “However, a plant trip occurred on October 2, 2009, due to failure of the main generator output breaker. The plant trip required redirection of station resources to respond to the forced outage and to perform recovery activities. Since the recovery efforts were a major distraction, the decision was made to postpone the exercise.” The licensee states that it did participate in the offsite portion of the exercise on October 7, 2009, with Federal, state and local authorities. Since the scenario for the exercise would thus be known to the licensee emergency response organization (ERO) team members designated for the offsite portion of the exercise, the scenario will require modification for the forthcoming onsite portion of the exercise and a new ERO team will need to be selected to participate in the onsite portion of the biennial exercise.

In summary, as a result of the impact of the combined need to repair the generator output breaker, an ongoing extensive refueling outage, the associated unavailability of key station personnel and the need to perform activities to support the onsite portion of the exercise, the licensee proposes to reschedule the onsite portion of the exercise for April 2010.

Environmental Impacts of the Proposed Action

The underlying purpose of 10 CFR 50, Appendix E, Section IV.F.2.b, requiring licensees to conduct a biennial exercise, is to ensure that ERO personnel are familiar with their duties and to test the adequacy of emergency plans. In addition, 10 CFR 50, Appendix E, Section IV.F.2.b, also requires licensees to maintain adequate emergency response capabilities during the intervals between biennial exercises by conducting drills to exercise the principal functional areas of emergency response. In order to accommodate the scheduling of full participation exercises, the NRC has allowed licensees to schedule the exercises at any time during the calendar biennium. Conducting the VCSNS full-participation exercise in calendar year 2010 places the exercise past the previously scheduled biennial calendar year of 2009. Since the last biennial exercise on October 2, 2007, the licensee has conducted nine full-station participation training drills to exercise these principal functional areas, including an after-hours augmentation drill. In addition, at the request of the Federal Emergency Management Agency (FEMA), the licensee supported the State and local authorities with the offsite portion of the biennial exercise on October 7, 2009, thereby facilitating the FEMA evaluation of the State and local authorities. The NRC staff considers the intent of this requirement is met by having conducted these series of training drills.

The NRC has completed its evaluation of the proposed action and concludes that it does not create new accident precursors and that the probability and consequences of postulated accidents are not significantly increased.

The details of the staff's safety evaluation will be provided in the exemption that will be issued as part of the letter to the licensee approving the exemption to the regulation.

No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with such proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the Virgil C. Summer Nuclear Station, Unit No. 1, NUREG-0719, dated May 1981, and Final Supplemental Environmental Impact Statement (NUREG-1437 Supplement 15) dated February 2004.

Agencies and Persons Consulted

In accordance with its stated policy, on November 25, 2009, the staff consulted with the South Carolina State official, Ms. Susan Jenkins of the South Carolina Department of Health and Environmental Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 15, 2009, as supplemented by letter dated November 3, 2009. Documents may be examined, and/or copied for a fee, at the NRC's Public Document Room (PDR), located at One White Flint North, Room O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 10th day of December 2009.
For the Nuclear Regulatory Commission.
Robert E. Martin,
Senior Project Manager, Plant Licensing Branch 2-1, Division of Operating Reactor Licensing, Office of Nuclear Reactor Regulation.

[FR Doc. E9-29874 Filed 12-15-09; 8:45 am]

BILLING CODE 7590-01-P